DEPARTMENT OF EDUCATION

[CFDA No. 84.305T]

Office of Educational Research and Improvement (OERI); Field-Initiated Studies (FIS) Education Research Grant Program; Notice of Application Review Procedures for New Awards for the Second Cycle of Fiscal Year (FY) 2001

SUMMARY: On September 22, 2000 we published in the Federal Register (65 FR 57326) a notice of application review procedures for new awards for FY 2001 for the FIS Education Research Grant Program. These procedures governed the first cycle of the competition and modified the procedures governing the review of applications in 34 CFR part 700. This notice establishes procedures that OERI will use to review applications for the second cycle of the FIS competition.

Application Review Procedure

OERI will continue to use a one-tier review process for the second cycle of the FY 2001 FIS program competition. OERI will form eleven review panels. Each panel will be composed of reviewers who are expert in a particular substantive area. Each panel will have approximately 12-15 members. Applications will be assigned to review panels where the expertise of the panel matches the topic of the application. All applications assigned to a panel will be mailed to all members of that review panel for review. Each application will be assigned to three Lead Reviewers who have particular expertise related to the topic of that application. Prior to the panel meeting, each of the three Lead Reviewers will independently complete technical review forms for the assigned applications. On those forms, the Lead Reviewers document their judgment regarding the strengths and weaknesses of the applications they have been assigned according to the published selection criteria and assign a preliminary rating for each of the criteria on each of those applications. The three selection criteria were cited in the application package: National Significance, Quality of the Project Design, and Quality and Potential Contributions of Personnel. The Lead Reviewers will select from one of the following to indicate the preliminary rating for a specific criterion for each application: Exceptional quality, High quality, Moderate quality, or Low quality.

In addition, all reviewers are expected to be familiar enough with all of the applications to participate in a discussion of the applications at the review panel meeting. At the review panel meeting, the three Lead Reviewers lead a discussion of the applications they have been assigned. Other panelists then ask questions of the three Lead Reviewers when necessary. Following the full discussion of each application, all panelists assign their ratings for each criterion on that application, using the rating scale described in this notice. At that time, the three Lead Reviewers may also change their preliminary ratings if they wish.

Ratings provided by individual reviewers across the three rating criteria will be translated by OERI into numerical scores where a rating of “exceptional quality” will be assigned a 3, a rating of “high quality” will be assigned a 2, a rating of “moderate quality” will be assigned a 1, and a rating of “low quality” will be assigned a 0. In cases where scores provided by 50% or more of the reviewers on a particular application are 2 or higher (i.e., “high quality” or “exceptional quality”) for all three rating criteria, a multiplier will be used. In these cases, the scores of only those reviews comprised of “high quality” or “exceptional quality” for all three criteria will be multiplied by 1.25. The use of a multiplier favors those applications that receive consistently high ratings.

To construct the funding slate, a numeric average for each application will be determined. To determine the average score, the total of the numeric scores provided by all reviewers for a given application will be divided by the number of reviewers who rated that application. The resulting array of average scores will form the funding slate.

For this competition, potential applicants were invited to submit letters of intent. In the letter of intent, applicants identified the panel they thought was best suited to review their application. Applicants are hereby notified that the data in the letters of intent were collected for administrative purposes only. OERI reserves the right to assign any application to any panel where the agency believes the reviewers are best qualified to review that application.

Waiver of Proposed Rulemaking

In accordance with the Administrative Procedure Act (5 U.S.C. 553), it is the practice of the Secretary to offer interested parties the opportunity to comment on proposed regulations. However, because this notice merely establishes procedural requirements for review of applications and does not create substantive policy, proposed rulemaking is not required under 5 U.S.C. 553(b)(A).

FOR FURTHER INFORMATION CONTACT: Elizabeth Payer, Office of Educational Research and Improvement, U.S. Department of Education, 555 New Jersey Avenue, NW., room 502e, Washington, DC 20208-5645. Telephone: (202) 219-1310 or via Internet: Elizabeth_Payer@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 6031(c)(2)(B).

Dated: April 20, 2001.
Sue Betka,
Deputy Assistant Secretary for Educational Research and Improvement.

[FR Doc. 01-10267 Filed 4-20-01; 2:09 pm]

BILLING CODE 4000-01-U